DEPARTMENT OF HEALTH AND HUMAN SERVICES

Indian Health Service

Office of Direct Service and Contracting Tribes; National Indian Health Outreach and Education—Health Reform Cooperative Agreement; Correction

AGENCY: Indian Health Service, HHS.

ACTION: Notice; correction.

SUMMARY: The Indian Health Service published a document in the Federal Register on June 19, 2015, for the FY 2015 National Indian Health Outreach and Education, Health Reform Cooperative Agreement Program. The notice contained two incorrect dates.

FOR FURTHER INFORMATION CONTACT: Mr. Paul Gettys, Grant Systems Coordinator, Division of Grants Management (DGM), Indian Health Service, 801 Thompson Avenue, Suite TMP 360, Rockville, MD 20852, Telephone direct (301) 443-2114, or the DGM main number (301) 443-5204. (This is not a toll-free number.)

Corrections

In the Federal Register of June 19, 2015, in FR Doc. 2015-15157, on page 35373, in the third column, under the heading Key Dates, the correct Application Deadline Date and Proof of Non-Profit Status Due Date should read as follows:

Application Deadline Date: August 19, 2015.

Proof of Non-Profit Status Due Date: August 19, 2015.

Dated: July 1, 2015.
Robert G. McSwain,
Acting Director, Indian Health Service.

[FR Doc. 2015-16953 Filed 7-10-15; 8:45 am]

BILLING CODE 4160-16-P